DEPARTMENT OF TRANSPORTATION

Federal Railroad Administration

49 CFR Part 219

[Docket No. FRA-2001-11213, Notice No. 15]

RIN 2130-AA81

Alcohol and Drug Testing: Determination of Minimum Random Testing Rates for 2012

AGENCY: Federal Railroad Administration (FRA), DOT.

ACTION: Notice of determination.

According to data from FRA's Management Information System, the rail industry's random drug testing positive rate has remained below 1.0 percent for the last two years. The Federal Railroad Administrator (Administrator) has therefore determined that the minimum annual random drug testing rate for the period January 1, 2012, through December 31, 2012, will remain at 25 percent of covered railroad employees. In addition, because the industry-wide random alcohol testing violation rate has remained below 0.5 percent for the last two years, the Administrator has determined that the minimum random alcohol testing rate will remain at 10 percent of covered railroad employees for the period January 1, 2012, through December 31, 2012. Railroads remain free, as always, to conduct random testing at higher rates.

DATES: This notice of determination is effective December 27, 2011.

FOR FURTHER INFORMATION CONTACT: Lamar Allen, Alcohol and Drug Program Manager, Office of Safety Enforcement, Mail Stop 25, Federal Railroad Administration, 1200 New Jersey Avenue SE., Washington, DC 20590, (telephone (202) 493-6313); or Kathy Schnakenberg, FRA Alcohol/Drug Program Specialist, (telephone (719) 633-8955).

Issued in Washington, DC, on December 20, 2011.
Joseph C. Szabo,
Administrator.

[FR Doc. 2011-33046 Filed 12-23-11; 8:45 am]

BILLING CODE 4910-06-P